DEPARTMENT OF COMMERCE

International Trade Administration

Middle East Public Health Mission; Application Deadline Extended

AGENCY: International Trade Administration, Department of Commerce.

ACTION: Notice.

Timeframe for Recruitment and Applications

Mission recruitment will be conducted in an open and public manner, including publication in the Federal Register, posting on the Commerce Department trade mission calendar (http://www.ita.doc.gov/doctm/tmcal.html) and other Internet Web sites, press releases to general and trade media, direct mail, notices by industry trade associations and other multiplier groups, and publicity at industry meetings, symposia, conferences, and trade shows. CS Saudi Arabia and CS Qatar will work in conjunction with Global Trade Programs, which will serve as a key facilitator in establishing strong commercial ties to the U.S. companies in the targeted sectors nationwide.

Recruitment for the mission will begin immediately and conclude no later than Wednesday, April 9, 2010. The U.S. Department of Commerce will review all applications immediately after the deadline. We will inform applicants of selection decisions as soon as possible after April 9, 2010. Applications received after the deadline will be considered only if space and scheduling constraints permit.

Contacts

Ms. Jeanne Townsend, Baltimore U.S. Export Assistance Center, Tel: 410-962-4518, Fax: 410-962-4529, E-mail: Jeanne.Townsend@trade.gov.

Ms. Lisa C. Huot, U.S. Department of Commerce, Washington, DC 20230, Tel: 202-482-2796, Fax: 202-482-0115, E-Mail: Lisa.Huot@trade.gov .

Sean Timmins,
Global Trade Programs, Commercial Service Trade Missions Program.

[FR Doc. 2010-6990 Filed 3-29-10; 8:45 am]

BILLING CODE 3510-FP-P